ENVIRONMENTAL PROTECTION AGENCY

40 CFR Part 52

[EPA-R06-OAR-2015-0142; FRL-9958-61-Region 6]

Approval and Promulgation of Implementation Plans; Oklahoma; Infrastructure and Interstate Transport for the 2012 Fine Particulate Matter Standard

AGENCY: Environmental Protection Agency (EPA).

ACTION: Final rule.

SUMMARY: Pursuant to the Federal Clean Air Act (CAA or the Act), the Environmental Protection Agency (EPA) is approving elements of a State Implementation Plan (SIP) submission from the State of Oklahoma for the 2012 Fine Particulate Matter (PM2.5) National Ambient Air Quality Standard (NAAQS or standard). The submission addresses how the existing SIP provides for implementation, maintenance, and enforcement of this NAAQS (infrastructure SIP or i-SIP). The i-SIP ensures that the Oklahoma SIP is adequate to meet the State's responsibilities under the CAA.

DATES: This rule is effective on July 14, 2017.

ADDRESSES: The EPA has established a docket for this action under Docket ID No. EPA-R06-OAR-2015-0142. All documents in the docket are listed on the http://www.regulations.gov Web site. Although listed in the index, some information is not publicly available, e.g., Confidential Business Information or other information whose disclosure is restricted by statute. Certain other material, such as copyrighted material, is not placed on the Internet and will be publicly available only in hard copy form. Publicly available docket materials are available either electronically through http://www.regulations.gov or in hard copy at the EPA Region 6, 1445 Ross Avenue, Suite 700, Dallas, Texas 75202-2733.

FOR FURTHER INFORMATION CONTACT: Wendy Jacques, 214-665-7395, jacques.wendy@epa.gov.

SUPPLEMENTARY INFORMATION: Throughout this document “we,” “us,” and “our” means the EPA.

I. Background

The background for this action is discussed in detail in our November 21, 2016 proposal (81 FR 83184). In that proposed rule, we proposed to partially approve and partially disapprove the June 16, 2016, infrastructure SIP submission from Oklahoma, which addresses the requirements of CAA sections 110(a)(1) and (2) as applicable to the 2012 PM2.5 NAAQS. We also proposed to disapprove a portion of the January 28, 2015 i-SIP submission for the 2010 SO2 NAAQS. We proposed disapproval for both submissions only as to the portions that address CAA section 110(a)(2)(D)(i)(II); the requirement for visibility protection in other States. CAA section 110(a)(2)(D)(i)(II) requires the SIP for a new or revised NAAQS to contain adequate provisions to prohibit emissions which will interfere with required measures for any other State for (1) prevention of significant deterioration (PSD) of air quality or (2) visibility protection. We did not receive any comments regarding our proposal.

At this time, we are not acting on the portions of the 2012 PM2.5 and 2010 SO2 NAAQS i-SIP submissions that address CAA section 110(a)(2)(D)(i)(II) as it relates to visibility protection in other States. We also note that the State did not address CAA section 110(a)(2)(D)(i)(I) ¹ in the June 16, 2016 submittal for the 2012 PM2.5 NAAQS, thus we are not taking action to approve or disapprove the requirements for that section. The State submitted an i-SIP revision to address the requirements in CAA section 110(a)(2)(D)(i)(I) for the 2012 PM2.5 NAAQS on December 19, 2016; we expect to act on that submittal at a later time.

¹ CAA section 110(a)(2)(D)(i)(I) requires the SIP to contain adequate provisions to prohibit emissions to other States which will (1) contribute significantly to nonattainment of a new or revised NAAQS or (2) interfere with maintenance of that NAAQS.

II. Final Action

We are approving the portions of the June 16, 2016 Oklahoma infrastructure SIP submission for the 2012 PM2.5 NAAQS that address CAA sections 110(a)(2)(A), (B), (C), (D)(i)(II) as it relates to the prevention of interference with PSD, (D)(ii), (E)(i), (E)(ii), (F), (G), (H), (J), (K), (L) and (M). The i-SIP addresses how the existing SIP provides for implementation, maintenance, and enforcement of the 2012 PM2.5 NAAQS and is adequate to meet the State's responsibilities under the CAA.

III. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 14, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Interstate transport of pollution, Particulate matter, Reporting and recordkeeping requirements, Sulfur oxides.

Dated: June 1, 2017.
Samuel Coleman,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart LL—Oklahoma

2. In § 52.1920(e), the first table titled “EPA-Approved Nonregulatory Provisions and Quasi-Regulatory Measures in the Oklahoma SIP” is amended by adding an entry for “Infrastructure for the 2012 PM2.5 NAAQS” at the end to read as follows:

§ 52.1920 Identification of plan.

* * * * *

(e) * * *

EPA-Approved Nonregulatory Provisions and Quasi-Regulatory Measures in the Oklahoma SIP
Name of SIP provision | Applicable geographic or nonattainment area | State submittal date | EPA approval date | Explanation
* * * * * * *
Infrastructure for the 2012 PM2.5 NAAQS | Statewide | 6/16/2016 | 6/14/2017 [Insert FR page number where document begins] | Does not address 110(a)(2)(D)(i)(I). No action on 110(a)(2)(D) (i)(II) (visibility portion).

* * * * *

[FR Doc. 2017-12209 Filed 6-13-17; 8:45 am]

BILLING CODE 6560-50-P